DEPARTMENT OF COMMERCE

National Oceanic and Atmospheric Administration

RIN: 0648-XO57

National Marine Fisheries Service, Pacific Fishery Management Council; Public Meeting

AGENCY: National Marine Fisheries Service, National Oceanic and Atmospheric Administration, Commerce.

ACTION: Notice of public meetings.

SUMMARY: The Pacific Fishery Management Council (Council) and NMFS will hold a Coastal Pelagic Species (CPS) Stock Assessment Review (STAR) Panel meeting to review draft stock assessment documents for Pacific mackerel and survey methods for Pacific sardine.

DATES: The meeting is scheduled for Monday, May 4, 2009 through Friday May 8, 2009. Monday through Thursday sessions are scheduled from 8 a.m. to 5 p.m. and Friday's session is scheduled from 8 a.m. until business for the day is completed.

ADDRESSES: The STAR Panel will be held at the National Marine Fisheries Service, Southwest Fisheries Science Center (SWFSC), Large Conference Room, 8604 La Jolla Shores Drive, La Jolla, CA 92037; telephone: (858) 546-1914.

Council address: Pacific Fishery Management Council, 7700 NE Ambassador Place, Suite 101, Portland, OR 97220.

FOR FURTHER INFORMATION CONTACT: Mr. Mike Burner, Pacific Fishery Management Council; telephone: (503) 820-2280.

SUPPLEMENTARY INFORMATION: The purpose of the CPS STAR Panel meeting is to review draft stock assessment documents and any other pertinent information for Pacific mackerel, review draft survey documents and any other pertinent information for Pacific sardine, work with the Pacific mackerel Stock Assessment Team and the Pacific sardine Survey Design Teams to make necessary revisions, and produce STAR Panel reports. The STAR Panel reports will be for use by the Council family and other interested persons for developing management recommendations for the 2009-10 Pacific mackerel fishery, making recommendations on Pacific sardine survey methodology, and in consideration of exempted fishing permits.

Although non-emergency issues not contained in this notice may arise during the STAR Panel, those issues may not be the subject of formal action during this meeting. Formal action will be restricted to those issues specifically listed in this notice and any issues arising after publication of this notice that require emergency action under Section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 820-2280 at least 5 days prior to the meeting date.

Entry to the SWFSC requires visitors to register with the front office each morning. A visitor's badge, which must be worn while at the SWFSC, will be issued to all meeting participants. Since parking is at a premium at the SWFSC, car pooling, and mass transit are encouraged.

Dated: April 6, 2009.
Tracey L. Thompson,
Acting Director, Office of Sustainable Fisheries, National Marine Fisheries Service.

[FR Doc. E9-8143 Filed 4-9-09; 8:45 am]

BILLING CODE 3510-22-S